DEPARTMENT OF HOMELAND SECURITY

Federal Emergency Management Agency

[Docket ID FEMA-2021-0002; Internal Agency Docket No. FEMA-B-2103]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 25, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2103, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
DeKalb County, Alabama and Incorporated Areas
Project: 18-04-0007S Preliminary Date: September 7, 2020
City of Rainsville | City Hall, 70 McCurdy Avenue South, Rainsville, AL 35986.
Town of Crossville | Town Hall, 14521 Alabama Highway 68, Crossville, AL 35962.
Town of Fyffe | Town Hall, 514 Campbell Street, Fyffe, AL 35971.
Town of Geraldine | Town Hall, 41343 Alabama Highway 75, Geraldine, AL 35974.
Town of Henagar | City Hall, 9252 Burton Drive, Henager, AL 35978.
Town of Ider | Town Hall, 10793 Alabama Highway 75, Ider, AL 35981.
Town of Lakeview | Lakeview City Hall, 39333 Alabama Highway 75, Fyffe, AL 35971.
Town of Powell | Powell Town Hall, 110 Broad Street North, Fyffe, AL 35971.
Town of Shiloh | Shiloh Town Hall, 2489 Main Street Shiloh, Rainsville, AL 35986.
Town of Sylvania | Municipal Complex, 22957 Sylvania Avenue South, Sylvania, AL 35988.
Unincorporated Areas of DeKalb County | DeKalb County Engineer's Office, 111 Grand Avenue Southwest, Suite 115, Fort Payne, AL 35967.
Etowah County, Alabama and Incorporated Areas
Project: 18-04-0007S Preliminary Date: September 7, 2020
Town of Sardis City | Town Hall, 1335 Sardis Drive, Sardis City, AL 35956.
Unincorporated Areas of Etowah County | Etowah County Engineer's Office, 402 Tuscaloosa Avenue, Gadsden, AL 35901.
Jackson County, Alabama and Incorporated Areas
Project: 18-04-0007S Preliminary Date: September 7, 2020
City of Bridgeport | City Hall, 116 Jim B Thomas Avenue, Bridgeport, AL 35740.
City of Scottsboro | City Hall, 316 South Broad Street, Scottsboro, AL 35768.
City of Stevenson | City Hall, 104 Kentucky Avenue, Stevenson, AL 35772.
Town of Dutton | Jackson County Public Works Department, 395 Shelby Drive, Scottsboro, AL 35769.
Town of Hollywood | Town Hall, 29164 U.S. Highway 72, Hollywood, AL 35752.
Town of Langston | Jackson County Public Works Department, 395 Shelby Drive, Scottsboro, AL 35769.
Town of Pisgah | Town Hall, 2351 County Road 58, Pisgah, AL 35765.
Town of Section | Town Hall, 72 Dutton Road, Section, AL 35771.
Unincorporated Areas of Jackson County | Jackson County Public Works Department, 395 Shelby Drive, Scottsboro, AL 35769.
Marshall County, Alabama and Incorporated Areas
Project: 18-04-0007S Preliminary Date: September 7, 2020
City of Albertville | City Hall, 116 West Main Street, Albertville, AL 35950.
City of Boaz | City Hall, 112 North Broad Street, Boaz, AL 35957.
City of Guntersville | City Hall, 341 Gunter Avenue, Guntersville, AL 35976.
Unincorporated Areas of Marshall County | Marshall County Engineering Department, 424 Blount Avenue, Suite A337, Guntersville, AL 35976.
Frederick County, Maryland and Incorporated Areas
Project: 14-03-1939S Preliminary Date: September 28, 2018, June 19, 2020, August 19, 2020, and December 2, 2020
City of Brunswick | City Annex, Planning and Zoning Department, 601 East Potomac Street, Brunswick, MD 21716.
City of Frederick | City Office Annex, Engineering Department, 140 West Patrick Street, 3rd Floor, Frederick, MD 21701.
Town of Burkittsville | Town Office, 500 East Main Street, Burkittsville, MD 21718.
Town of Emmitsburg | Planning and Zoning Department, 300A South Seton Avenue, Emmitsburg, MD 21727.
Town of Middletown | Municipal Center, 31 West Main Street, Middletown, MD 21769.
Town of Myersville | Town Hall, 301 Main Street, Myersville, MD 21773.
Town of New Market | Town Hall, 39 West Main Street, New Market, MD 21774.
Town of Thurmont | Town Office, 615 East Main Street, Thurmont, MD 21788.
Town of Walkersville | Town Hall, 21 West Frederick Street, Walkersville, MD 21793.
Town of Woodsboro | Town of Woodsboro Planning and Zoning Department, Winchester Hall, 12 East Church Street, Frederick, MD 21701.
Unincorporated Areas of Frederick County | Frederick County Planning and Zoning Department, 30 North Market Street, Frederick, MD 21701.
Village of Rosemont | Office of the Burgess, 3513 Petersville Road, Knoxville, MD 21758.

[FR Doc. 2021-03765 Filed 2-23-21; 8:45 am]

BILLING CODE 9110-12-P